SMALL BUSINESS ADMINISTRATION

Request for Comments on Small Business Administration Draft FY 2022-2026 Strategic Plan Framework and Enterprise Learning Agenda

AGENCY: Small Business Administration (SBA).

ACTION: Notice and request for comment.

SUMMARY: The Small Business Administration (SBA) is requesting comments on its draft Strategic Plan Framework and Enterprise Learning Agenda (ELA) for fiscal years 2022-2026. The draft plan framework and ELA are available on SBA's website at https://www.sba.gov/sp.

DATES: Comments must be received on or before Friday, November 19, 2021.

ADDRESSES: You may submit comments by the following methods (Please send comments by one method only):

Email: Address to FY22-26StrategicPlan Feedback@SBA.gov. Include “Comments on SBA FY 2022-2026 Strategic Plan” in the email subject line.

Mail: Due to the ongoing COVID-19 pandemic, mailed comments cannot be accepted at this time.

Hand/Delivery/Courier: Same as Mail above.

FOR FURTHER INFORMATION CONTACT: Kathleen Graber, Lead Performance Analyst, Small Business Administration by email: FY22-26StrategicPlanFeedback@SBA.gov.

SUPPLEMENTARY INFORMATION: The draft Small Business Administration FY 2022-2026 Strategic Plan Framework and ELA are provided for public input as part of the strategic planning process under the Government Performance and Results Modernization Act of 2010 (GPRA-MA) (Pub. L. 111-352) and Foundations for Evidence-Based Policymaking Act of 2018 (the “Evidence Act”) (Pub. L. 115-435) to ensure that the public and stakeholders are provided an opportunity to comment. This Strategic Plan provides a framework that will support greater equity, customer service and technology modernization of SBA's programs while leveraging partnerships across the government and private sector to maximize the tools small business owners and entrepreneurs need to strengthen our economy, drive American innovation, and increase global competitiveness. The ELA sets a learning agenda to identify top priority evidence-building activities, such as program evaluation, research, and policy analysis.

The SBA proposes three strategic goals for the next five years: (1) Ensure Equitable and Customer-Centric Design and Delivery of Programs to Support Small Businesses and Innovative Start-ups; (2) Build Resilient Businesses and a Sustainable Economy; and (3) Implement Strong Stewardship of Resources for Greater Impact.

The draft SBA FY 2022-2026 Strategic Plan Framework and ELA are available through the SBA's website at https://www.sba.gov/sp.

Dated: October 21, 2021.
Jason Bossie,
Acting Associate Administrator for Performance, Planning, and the Chief Financial Officer.

[FR Doc. 2021-23001 Filed 10-20-21; 8:45 am]

BILLING CODE 8026-03-P